DEPARTMENT OF AGRICULTURE

Animal and Plant Health Inspection Service

[Docket No. APHIS-2022-0025]

Notice of Request for Revision to and Extension of Approval of an Information Collection; Federal Plant Pest and Noxious Weed Regulations

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the Federal plant pest and noxious weeds regulations.

DATES: We will consider all comments that we receive on or before July 19, 2022.

ADDRESSES: You may submit comments by either of the following methods:

• Federal eRulemaking Portal: Go to www.regulations.gov. Enter APHIS-2022-0025 in the Search field. Select the Documents tab, then select the Comment button in the list of documents.

• Postal Mail/Commercial Delivery: Send your comment to Docket No. APHIS-2022-0025, Regulatory Analysis and Development, PPD, APHIS, Station 3A-03.8, 4700 River Road Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information regarding the Federal plant pest and noxious weeds regulations, contact Dr. Colin Stewart, Assistant Director, Pests, Pathogens, and Biocontrol Permits Branch, PHP, PPQ, APHIS, 4700 River Road Unit 133, Riverdale, MD 20737-1236; (301) 851-2237. For information about the information collection process, contact Mr. Joseph Moxey, APHIS' Paperwork Reduction Act Coordinator, at (301) 851-2483.

SUPPLEMENTARY INFORMATION:

Title: Federal Plant Pest and Noxious Weeds Regulations.

OMB Control Number: 0579-0054.

Type of Request: Revision to and extension of approval of an information collection.

Abstract: The Plant Protection Act (the Act, 7 U.S.C. 7701 et seq.) authorizes the Secretary of Agriculture to restrict the importation, entry, exportation, or interstate movement of plants, plant products, biological control organisms, noxious weeds, articles, or means of conveyance, if the Secretary determines that the prohibition or restriction is necessary to prevent the introduction of plant pests or noxious weeds into the United States or their dissemination within the United States. The associated regulations that were issued by the Animal and Plant Health Inspection Service (APHIS) are located in 7 CFR parts 330 and 360.

These regulations contain information collection activities that include, but are not limited to, applications, amendments, withdrawals, cancellations, and appeals for permits; cooperative agreements and compliance agreements; consultations; site assessments; inspections; certifications; notifications of intent, appeals, amendments, and cancellations; labeling of boxes, containers, and bags; emergency action notifications; notices of arrival; and recordkeeping. These information collection activities allow APHIS to evaluate the risks associated with the importation or interstate movement of plant pests, noxious weeds, and soil, and also assist with developing risk mitigations, if necessary, for the importation or interstate movement of plant pests, noxious weeds, and soil.

In addition to the above information collection activities, we are adding to this collection petitions to add or remove plant pests to exemption and plant pest lists, which are currently approved by the Office of Management and Budget (OMB) under control number 0579-0187, Plant Pest Regulations; Update of Provisions. When OMB approves this combined information collection package (0579-0054), APHIS will discontinue 0579-0187.

We are asking OMB to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.24 hours per response.

Respondents: Importers and shippers of plant pests, noxious weeds, and other regulated articles; owners/operators of regulated garbage-handling facilities; State plant health officials; Tribal groups; and individuals.

Estimated annual number of respondents: 4,765.

Estimated annual number of responses per respondent: 16.

Estimated annual number of responses: 78,350.

Estimated total annual burden on respondents: 18,886 hours. (Due to averaging, the total annual burden hours may not equal the product of the annual number of responses multiplied by the reporting burden per response.)

All responses to this notice will be summarized and included in the request for OMB approval. All comments will also become a matter of public record.

Done in Washington, DC, this 17th day of May 2022.
Anthony Shea,
Administrator, Animal and Plant Health Inspection Service.

[FR Doc. 2022-10874 Filed 5-19-22; 8:45 am]

BILLING CODE 3410-34-P